DEPARTMENT OF THE INTERIOR

National Park Service

[NPS-WASO-NAGPRA-NPS0038954; PPWOCRADN0-PCU00RP14.R50000]

Notice of Inventory Completion: Museum of Us, San Diego, CA

AGENCY: National Park Service, Interior.

ACTION: Notice.

SUMMARY: In accordance with the Native American Graves Protection and Repatriation Act (NAGPRA), the Museum of Us has completed an inventory of human remains and associated funerary objects and has determined that there is a cultural affiliation between the human remains and associated funerary objects and Indian Tribes or Native Hawaiian organizations in this notice.

DATES: Repatriation of the human remains and associated funerary objects in this notice may occur on or after November 29, 2024.

ADDRESSES: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us, and additional information on the determinations in this notice, including the results of consultation, can be found in the inventory or related records. The National Park Service is not responsible for the determinations in this notice.

Abstract of Information Available

Based on the information available, human remains representing, at least, four individuals have been reasonably identified from three archaeological sites. The 1,679 associated funerary objects are from five archaeology sites.

Human remains representing, at least, two individuals and 267 associated funerary objects removed from Rose Canyon (W-3; CA-SDI-4595) in La Jolla, San Diego County, CA, include 33 unmodified faunal bone, four bifaces, 15 core tools, 11 unworked flakes, eight utilized flakes, six manos, one stone pendant, one pestle, 11 ecofacts, five hammerstones, and 172 unmodified shells. The 53 associated funerary objects removed from C-5 (shore line of ancient Blake Sea) in Imperial County, CA include 16 decorated body sherds, 13 decorated rim sherds, one undecorated body sherd, 15 undecorated rim sherds, one biface, one chopper, four manos, one battered stone, and one ecofact. The 632 associated funerary objects removed from C-123 (CA-IMP-135) in East San Felipe Valley, Imperial County, CA include one unmodified faunal bone, two ceramic pipe fragments, 22 decorated body sherds, 22 decorated rim sherds, 103 undecorated body sherds, 372 undecorated rim sherds, seven bifaces, six choppers, one core tool, 17 projectile points, 16 scrapers, nine unworked flakes, 13 utilized flakes, four manos, one stone sucking tube, one shaft straightener, one historic metal material, five ecofacts, three modified shells, 23 unmodified shells, and three battered stones. Human remains representing, at least, one individual and 167 associated funerary objects removed from C-158/A in Granite Hill, East Central San Diego County, CA include one ball stone, one unmodified shell, 16 Olivella beads, one modified shell, one shell pendant, one bull roarer, three mescal chisels, one mano, eight unworked flakes, nine projectile points, three chipped stones, 30 undecorated mixed sherds, 26 undecorated body sherds, three decorated rim sherds, one decorated body sherd, one ceramic disk, and 61 mixed sherds. Human remains representing, at least, one individual and 560 associated funerary objects removed from C-165 in Hawi-Vallecito, San Diego County, CA include one unmodified faunal bone, three ceramic pipe handles, one ceramic tinaja, two ceramic water ollas, five decorated body sherds, 31 decorated mixed sherds, three decorated rim sherds, 436 undecorated mixed sherds, one chipped stone axe preform, two chipped stone scrapers, one quartz scraper, 23 projectile points, two unworked flakes, three utilized flakes, one groundstone weight, three pestles, one shaft straightener, one Olivella bead, three ecofacts, 33 modified shells, three unmodified shells, and one modified groundstone.

Between the 1920s and 1950s, geologist and amateur archaeologist and collector, Malcolm J. Rogers, conducted surveys and excavations on behalf of the Museum of Man (now Museum of Us) at several sites, including the aforementioned, in east central San Diego County and Imperial County.

Cultural Affiliation

Based on the information available and the results of consultation, cultural affiliation is clearly identified by the information available about the human remains and associated funerary objects described in this notice.

Determinations

The Museum of Us has determined that:

• The human remains described in this notice represent the physical remains of four individuals of Native American ancestry.

• The 1,679 objects described in this notice are reasonably believed to have been placed intentionally with or near individual human remains at the time of death or later as part of the death rite or ceremony.

• There is a reasonable connection between the human remains and associated funerary objects described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 29, 2024. If competing requests for repatriation are received, the Museum of Us must determine the most appropriate requestor prior to repatriation. Requests for joint repatriation of the human remains and associated funerary objects are considered a single request and not competing requests. The Museum of Us is responsible for sending a copy of this notice to the Indian Tribes and Native Hawaiian organizations identified in this notice.

Authority: Native American Graves Protection and Repatriation Act, 25 U.S.C. 3003, and the implementing regulations, 43 CFR 10.10.

Dated: October 25, 2024.
Melanie O'Brien,
Manager, National NAGPRA Program.

[FR Doc. 2024-25186 Filed 10-29-24; 8:45 am]

BILLING CODE 4312-52-P